DEPARTMENT OF VETERANS AFFAIRS

[OMB Control No. 2900-0779]

Agency Information Collection Activity Under OMB Review: Hematologic and Lymphatic Conditions, Including Leukemia Disability Benefits Questionnaire, Amyotrophic Lateral Sclerosis (Lou Gehrig's Disease) Disability Benefits Questionnaire, Peripheral Nerve Conditions (Not Including Diabetic Sensory-Motor Peripheral Neuropathy) Disability Benefits Questionnaire, Persian Gulf and Afghanistan Infectious Diseases Disability Benefits Questionnaire, Tuberculosis Disability Benefits Questionnaire, Kidney Conditions (Nephrology) Disability Benefits Questionnaire, Male Reproductive Organ Conditions Disability Benefits Questionnaire, Prostate Cancer Disability Benefits Questionnaire, Eating Disorders Disability Benefits Questionnaire, Mental Disorders (other than PTSD and Eating Disorders) Disability Benefits Questionnaire, Review Post Traumatic Stress Disorder (PTSD) Disability Benefits Questionnaire

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Comments must be submitted on or before February 5, 2018.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0779” in any correspondence.

FOR FURTHER INFORMATION CONTACT: Cynthia Harvey-Pryor, Enterprise Records Service (005R1B), Department of Veterans Affairs, 811 Vermont Avenue NW, Washington, DC 20420, (202) 461-5870 or email cynthia.harvey-pryor@va.gov. Please refer to “OMB Control No. 2900-0779” in any correspondence.

SUPPLEMENTARY INFORMATION:

Authority: 44 U.S.C. 3501-21.

Title: Hematologic and Lymphatic Conditions, Including Leukemia Disability Benefits Questionnaire (VA Form 21-0960B-2), Amyotrophic Lateral Sclerosis (Lou Gehrig's Disease) Disability Benefits Questionnaire (VA Form 21-0960C-2), Peripheral Nerve Conditions (Not Including Diabetic Sensory-Motor Peripheral Neuropathy) Disability Benefits Questionnaire (VA Form 21-0960C-10), Persian Gulf and Afghanistan Infectious Diseases Disability Benefits Questionnaire (VA Form 21-0960I-1), Tuberculosis Disability Benefits Questionnaire (VA Form 21-0960I-6), Kidney Conditions (Nephrology) Disability Benefits Questionnaire (VA Form 21-0960J-1), Male Reproductive Organ Conditions Disability Benefits Questionnaire (VA Form 21-0960J-2), Prostate Cancer Disability Benefits Questionnaire (VA Form 21-0960J-3), Eating Disorders Disability Benefits Questionnaire (VA Form 21-0960P-1), Mental Disorders (other than PTSD and Eating Disorders) Disability Benefits Questionnaire (VA Form 21-0960P-2), Review Post Traumatic Stress Disorder (PTSD) Disability Benefits Questionnaire (VA Form 21-0960P-3).

OMB Control Number: 2900-0779.

Type of Review: Extension of a currently approved collection.

Abstract: VA Form 21-0960 series is used to gather necessary information from a claimant's treating physician regarding the results of medical examinations. VA gathers medical information related to the claimant that is necessary to adjudicate the claim for VA disability benefits. The Disability Benefit Questionnaire title will include the name of the specific disability for which it will gather information. VAF 21-0960B-2, Hematologic and Lymphatic Conditions, Including Leukemia Disability Benefits Questionnaire, will gather information related to the claimant's diagnosis of any hematologic or lymphatic condition; VAF 21-0960C-2, Amyotrophic Lateral Sclerosis (Lou Gehrig's Disease) Disability Benefits Questionnaire, will gather information related to the claimant's diagnosis of amyotrophic lateral sclerosis; VAF 21-0960C-10, Peripheral Nerve Conditions (Not Including Diabetic Sensory-Motor Peripheral neuropathy) Disability Benefits Questionnaire, will gather information related to the claimant's diagnosis of a peripheral nerve disorder; VAF 21-0960I-1, Persian Gulf and Afghanistan Infectious Diseases Disability Benefits Questionnaire, will gather information related to the claimant's diagnosis of an infectious disease due to service in the Persian Gulf or Afghanistan; VAF 210960-I-6, Tuberculosis Disability Benefits Questionnaire, will gather information related to the claimant's diagnosis of tuberculosis; VAF 21-0960J-1, Kidney Conditions (Nephrology) Disability Benefits Questionnaire, will gather information related to the claimant's diagnosis of kidney disease; VAF 21-0960J-2, Male Reproductive Organ Conditions Disability Benefits Questionnaire, will gather information related to the claimant's diagnosis of a condition affecting the male reproductive organ; VAF 21-0960J-3, Prostate Cancer Disability Benefits Questionnaire, will gather information related to the claimant's diagnosis of prostate cancer; VAF 21-0960P-1, Eating Disorders Disability Benefits Questionnaire, will gather information related to the claimant's diagnosis of an eating disorder; VAF 21-0960P-2, Mental Disorders (other than PTSD and Eating Disorders) Disability Benefits Questionnaire will gather information related to the claimant's diagnosis of any mental disorder with the exception of PTSD; VAF 21-0960P-3, Review Post Traumatic Stress Disorder (PTSD) Disability Benefits Questionnaire, will gather information related to the claimant's diagnosis of PTSD.

An agency may not conduct or sponsor, and a person is not required to respond to a collection of information unless it displays a currently valid OMB control number. The Federal Register Notice with a 60-day comment period soliciting comments on this collection of information was published at 82 FR 74 on April 19, 2017, pages 18538 and 18540.

Affected Public: Individuals or Households.

Estimated Annual Burden: 127,917 hours.

Estimated Average Burden per Respondent: 25 minutes.

Frequency of Response: One time.

Estimated Number of Respondents: 307,000.

By direction of the Secretary.
Cynthia Harvey-Pryor,
Department Clearance Officer, Office of Quality, Privacy and Risk, Department of Veterans Affairs.

[FR Doc. 2017-28510 Filed 1-4-18; 8:45 am]

BILLING CODE 8320-01-P